FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

IFE Global Logistics Inc., 100 N. Hill Drive, #15, Brisbane, CA 94005, Officer: Eric C. Datanagan, President (Qualifying Individual)

LA World Express Inc. dba Guangyi USA, 2800 Plaza Del Amo, #202, Torrance, CA 90503, Officers: Raymond Chou, Operating Manager (Qualifying Individual), Glenda Chu, President

Sunwoo International, Inc. dba Gen-X, International Freight Company, 2558 Landmeier Road, Suite C, Elk Grove Village, IL 60007, Officer: Kook Seong Lee, President (Qualifying Individual)

Marine Transport Logistic Inc., 602 20th Street, Brooklyn, NY 11218, Officer: Alla Solovyeva, President (Qualifying Individual)

Ocean Freight Forwarder—Ocean Transportation Intermediary Applicant:

Transporte Medrano, Inc. dba Medrano Express, 134 North Franklin Street, Hempstead, NY 11550-1318, Officers: Jorge A. Medrano, President (Qualifying Individual), Telma Ayala, Vice President

Dated: October 31, 2003.
Bryant L. VanBrakle,
Secretary.

[FR Doc. 03-27855 Filed 11-4-03; 8:45 am]

BILLING CODE 6730-01-P